DEPARTMENT OF JUSTICE

Office of Justice Programs

Agency Information Collection Activities: Proposed Collection; Comments Requested

ACTION: 60-Day notice of information collection under review: new, mental health and juvenile justice: building a model for effective service delivery.

The Department of Justice (DOJ), Office of Justice Programs, has submitted the following information collection request to the Office of Management and Budget (OMB) for review and approval in accordance with the Paperwork Reduction Act of 1995. The proposed information collection is published to obtain comments from the public and affected agencies. Comments are encouraged and will be accepted for “sixty days” until August 20, 2002. This process is conducted in accordance with 5 CFR 1320.10.

If you have comments especially on the estimated public burden or associated response time, suggestions or need a copy of the proposed information collection instrument with instructions or additional information, please contact Ellen Wesley, (202) 616 3558, Office of Management and Budget Services, Office of Justice Programs, US Department of Justice, 810 Seventh Street NW., Washington, DC 20531.

Request written comments and suggestions from the public and affected agencies concerning the proposed collection of information are encouraged. Your comments should address one or more of the following four points.

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New.

(2) Title of the Form/Collection: Mental Health and Juvenile Justice: Building a Model for Effective Service Delivery.

(3) Agency form number, if any, and the applicable component of the Department of Justice sponsoring the collection: Form Number: OJP Form 1121 Office of Juvenile Justice and Delinquency Prevention, United States Department of Justice.

(4) Affected public who will be asked or required to respond, as well as a brief abstract: Primary: Individuals or Households; State and Local Government. This study is designed to examine: (1) The mental health status of youth in selected facilities and programs; (2) the availability of mental health and related substance abuse services for these youth; (3) the extent to which needed services are services are received by the youth; and (4) the level of youth and family satisfaction with services received.

(5) An estimate of the total number of respondents and the amount of time estimated for an average respondent to respond: It is estimated that approximately 2,700 youth will complete the Massachusetts Youth Screening Instrument—Second Version (MAYSI-2), which takes 6-10 minutes to administer. In addition, a brief youth survey on service utilization and satisfaction, including some demographic items, will be administered to all study participants with the MAYSI. This survey will take no more than 15 minutes to administer. The Voice Diagnostic Interview Schedule for Children Version 4 (V-DISC 4) will be administered to 50% of those completing the MAYSI-2 interview. The V-DISC 4 takes about 1 hour to administer. We anticipate a total of 24 participants in the family focus groups and 45 key staff interviews. It is anticipated that the focus groups will take approximately 2 hours each, and the key staff interviews will take 45 minutes each.

(6) An estimate of the total public burden (in hours) associated with the collection:

The estimated total hour burden to complete all data collection activities is estimated to be 2,556.75 hours.

If additional information is required contact: Brenda E. Dyer, Department Deputy Clearance Officer, Information Management and Security Staff, Justice Management Division, Department of Justice, Patrick Henry Building, Suite 1600, 601 D Street NW., Washington, DC 20530.

Dated: June 14, 2002.
Brenda E. Dyer,
Department Deputy Clearance Officer, Department of Justice.

[FR Doc. 02-15646 Filed 6-20-02; 8:45 am]

BILLING CODE 4410-18-M